DEPARTMENT OF HEALTH AND HUMAN SERVICES

Centers for Disease Control and Prevention

[Program Announcement 02102]

Prevention of Human Immunodeficiency Virus (HIV/AIDS) Through Interpersonal Communication and Community Mobilization To Promote Voluntary Counseling and Testing (VCT), Prevention of Mother to Child Transmission (PMTCT), Tuberculosis (TB) Preventive Therapy and Access to Care and Support Programs in the Republic of Botswana; Notice of Award of Funds

A. Purpose

The Centers for Disease Control and Prevention (CDC) announces the availability of fiscal year (FY) 2002 funds for a cooperative agreement with the National AIDS Coordinating Agency (NACA) to implement Total Community Mobilization (TCM) Project in the Republic of Botswana.

The purpose of this announcement is to mobilize community members in the Republic of Botswana and empower them to prevent HIV/AIDS transmission and improve access to support programs.

Measurable outcomes of the program will be in alignment with one or more of the following performance goals for the Global AIDS Program (GAP) Working with other countries, United States Agency for International Development (USAID), international, and U.S. government agencies, reduce the number of new HIV infections among 15 to 24 year olds in sub-Saharan Africa from an estimated two million by 2005. This program will enhance and expand the use of interpersonal communication and community mobilization to promote voluntary testing and counseling (VCT), prevention of mother to child transmission program (PMTCT), the national rollout of the Isoniazid Preventive Therapy (IPT) program, and improve access to care and treatment programs in Botswana. The program will also play an integral role in the implementation of the CDC MARCH (Modeling and Reinforcement to Combat HIV/AIDS) strategy for behavior change.

These collaborative activities if mobilized at the community level could profoundly impact the scope and intensity of the implementation of the National AIDS Policy. Cooperative efforts could lead to greater use of counseling and testing services in all areas of the country, increase in enrollment in the IPT and PMTCT programs, and greater use of existing programs for care and support throughout the nation.

Interpersonal communications can reinforce the messages and modeling which is taking place through behavior change communications such as the radio serial drama, “Magabeneg”. The U.S. Government seeks to reduce the impact of HIV/AIDS and related conditions in specific countries within sub-Saharan Africa, Asia, and the Americas through its Leadership and Investment in Fighting an Epidemic (LIFE) initiative. Through this program, CDC has initiated its Global AIDS Program (GAP)to strengthen capacity and expand activities in the areas of (1) HIV primary prevention; (2) HIV care, support, and treatment; and (3) capacity and infrastructure development, especially for surveillance. Targeted countries represent those with the most severe epidemics and the highest number of new infections. They also represent countries where the potential for impact is greatest and where U.S. government agencies are already active. Botswana is one of these targeted countries. To carry out its activities in these countries, CDC is working in a collaborative manner with national governments and other agencies to develop programs of assistance to address the HIV/AIDS epidemic. CDC's program of technical assistance to Botswana focuses on several areas including scaling up promising prevention and care strategies, such as VCT, PMTCT, and IPT, supporting behavior change communication projects (MARCH strategy), such as the radio serial drama, and other capacity building efforts. Botswana is experiencing one of the world's most severe AIDS crises that looms as a disaster of unprecedented proportions. The global burden of HIV/AIDS in Botswana is the highest in sub-Saharan Africa, where 83 percent of the world's AIDS deaths have occurred, and where four-fifths of all HIV-positive women live. Despite a relative stabilization of infection rates in some countries in West Africa, the HIV/AIDS epidemic continues to grow at an alarming rate in Southern Africa. Like many countries in this region, Botswana has been disproportionately affected by the AIDS pandemic. Over 20 percent of the population are believed to be HIV positive and the Botswana National Aids Co-ordinating Agency's 2000 Sentinel Surveillance reports 38.5 percent HIV infection in participating pregnant women. Botswana estimates that as many as 25 babies a day are born with HIV. AIDS-related conditions are responsible for 10 percent of annual deaths, with women and adolescents particularly at risk. TB is by far the single leading cause of death among adults with AIDS in Botswana.

Based on Sentinel surveys in 1999, an estimated 19 percent of the total population and 29 percent of the economically productive age group (15-49 years old) are living with HIV infection. The rate of TB infection in Botswana (537/100,000 in 1999) is one of the highest in the world. Botswana has taken many positive steps to address the AIDS epidemic. The President has recognized HIV/AIDS as “the greatest challenge Botswana has faced” and has warned Botswana that HIV/AIDS “threatens the country with annihilation.” The Botswana government pays for up to 80 percent of all HIV/AIDS activities in the country. This full-scale national response has generated many examples of creative programming and international collaborations. The government of Botswana will be among the first African countries to launch a TB prevention program using Isoniazid Preventive Therapy (IPT) for HIV infected individuals. A Pilot program of IPT was implemented in October 2000 and planning for nation-wide implementation is underway. In 1999 the MOH launched a pilot project for PMTCT in Gaborone and Francistown is now undertaking full scale implementation. In 2000 The BOTUSA Project in collaboration with the MOH launched the nationwide network of VCT centers, “Tebelopele” which means to look into the future. The government is also in the process of introducing ARV treatment and fully supports the MARCH strategy through Information Broadcasting. These programs are all new to the communities and providing information to the population using interpersonal communication can enhance uptake and empower the population to utilize these services.

The Botswana MOH and CDC collaboration was established in 1995 and is known as the “The BOTUSA Project” and is a successful example of MOH and international collaboration. BOTUSA is a strong supporter of the IPT program and is providing technical assistance, training for health care workers, supplying educational materials, and supporting program monitoring and evaluation. BOTUSA's collaboration includes support for the national PMTCT program through the provision of technical assistance, counseling space, equipment, and materials for prenatal clinics throughout the country. BOTUSA also supports in collaboration with the MOH, voluntary counseling and testing and a radio serial drama for behavior change.

However, despite the support of the government to fight the epidemic and the collaboration with international partners, the prevalence of HIV infection appears to have increased substantially in Botswana from 1997 to 2002 and the epidemic cannot yet be characterized as having stabilized. The capacity of the government to expand their pilot projects for prevention and extend the reach of their activities to the entire nation will have a substantial impact on the epidemic.

B. Eligible Applicants

Assistance will be provided only to the NACA for support of the TCM Project, as implemented by the NACA and the Humana People to People Foundation currently funded by the NACA of Botswana. No other applications are solicited.

The NACA is the only appropriate and qualified organization to fulfill the requirements set forth in this announcement because:

1. Through NACA, the Government of Botswana (GOB) has a cooperative agreement with Humana People to People for the implementation of door-to-door community mobilization. In Botswana this program will be implemented under the name TCM. Humana People to People has been requested to find a partner to pay for twenty percent of the cost.

2. The TCM Project is uniquely positioned, in terms of support from the GOB. The NACA has the ability to financially and technically oversee the TCM project, and to provide implementation of a large scale interpersonal communication project as well as a mandate from GOB. The NACA has mandated Humana People to People to implement nationwide coverage of community mobilization and interpersonal communication through the TCM project. They have the ability to collect information, train staff and advocate for the programs implemented in the National AIDS Strategic Plan and disseminate personalized “one on one” communication to support the fight against HIV/AIDS in Botswana.

3. The GOB assisted by The Botswana/U.S. of America (BOTUSA) Project evaluated the TCM project in 2001. The results led the GOB to fund Humana People to People to undertake national community mobilization against HIV/AIDS. Therefore, Humana People to People is the only available organization approved by the GOB to implement door-to-door community mobilization, the TCM program, and specific services.

4. The specific services which the TCM project will deliver are directly associated with the CDC prevention strategies implemented under the Global AIDS Program in Botswana and integrated into the TCM project.

C. Availability of Funds

Approximately $700,000 is available in FY 2002, to fund twenty percent of the TCM project by the NACA. The GOB will fund the remaining 80 percent of the agreement. It is expected that the award will begin on or about September 1, 2002 and will be made for a 12-month budget period within a project period of two years.

Continuation award within the approved project period will be made on the basis of satisfactory progress as evidenced by required reports and the availability of funds.

Use of Funds

Funding to be administered by the NACA for TCM include:

Provision of salaries and short-term contracts for technical and support staff needed to scale up current pilot programs in the community to a nation wide level. Funding for training, materials, and supervision in the field for the TCM community mobilization staff.

Funds received will not be used for the direct purchase of drugs to treat active TB disease. The purchase of antiretrovirals, reagents, and laboratory equipment for antiretroviral treatment projects requires preapproval from the GAP headquarters.

The applicant may contract with other organizations under these cooperative agreements, however, the applicant must perform a substantial portion of the activities (including program management and operations and delivery of prevention services for which funds are requested).

The costs that are generally allowable in grants to domestic organizations are likewise allowable to foreign institutions and international organizations, with the following exceptions:

1. Alterations and Renovations: Unallowable.

2. Customs and Import Duties: Unallowable. This includes consular fees, customs surtax, value added taxes, and other related charges.

3. Indirect Costs: With the exception of the American University, Beirut, the Gorgas Memorial Institute, and the World Health Organization, indirect costs will not be paid (either directly or through a sub-award) to organizations located outside the territorial limits of the U.S. or to international organizations regardless of their location.

All requests for funds, including the budget contained in the application, shall be stated in U.S. dollars. Once an award is made, the Department of Health and Human Services (DHHS) will not compensate foreign grantees for currency exchange fluctuations through the issuance of supplemental awards.

No funds appropriated under this Act shall be used to carry out any program of distributing sterile needles or syringes for the hypodermic injection of any illegal drug. Matching funds is not a requirement for this program announcement.

D. Where To Obtain Additional Information

This and other CDC announcements can be found on the CDC home page address— http://www.cdc.gov. Click on “Funding” then “Grants and Cooperative Agreements.”

If you have questions after reviewing the contents of all the documents, business management technical assistance may be obtained from: Cynthia Collins, Grants Management Specialist, Grants Management Branch, Procurement and Grants Office, Centers for Disease Control and Prevention, 2920 Brandywine Road, Room 3000, Atlanta, GA 30341-4146, Telephone number: (770) 488-2757, E-mail address: ccollins@cdc.gov.

For program technical assistance, contact: Ethleen S. Lloyd, Global AIDS Program (GAP), c/o U.S. Embassy Gaborone, 2170 Gaborone Place, Washington DC 20521, Telephone number: (868)633-2065, E-mail address: ellyod@cdc.gov.

Dated: October 9, 2002.
Edward J. Schultz,
Deputy Director, Procurement and Grants Office, Center for Disease Control and Prevention.

[FR Doc. 02-26534 Filed 10-17-02; 8:45 am]

BILLING CODE 4163-18-P